DEPARTMENT OF DEFENSE

Department of the Navy

Meeting of the Ocean Research Advisory Panel (ORAP); Correction

AGENCY: Department of the Navy, DoD.

ACTION: Notice; correction.

SUMMARY: The Department of the Navy published a document in the Federal Register (81 FR 28054) on May 9, 2016, concerning the open meeting of Ocean Research Advisory Panel (ORAP). Due to the meeting location, pre-registration of public attendees is requested.

DATES: The meeting will be held on Tuesday, May 31, 2016 from 1 p.m. to 5 p.m. and on Wednesday, June 1, 2016 from 9 a.m. to 3 p.m. Members of the public should submit their comments in advance of the meeting to the meeting point of contact. Members of the public who expect to attend are asked to provide name and citizenship in advance to the meeting point of contact in order to facilitate entry in the office suite.

ADDRESSES: The meeting will be held at 4100 Fairfax Drive, Suite 800, Arlington, VA, 22203.

FOR FURTHER INFORMATION CONTACT: CDR Joel W. Feldmeier, Office of Naval Research, 875 North Randolph Street Suite 1425, Arlington, VA 22203-1995, telephone (703) 696-5121, or see http://www.nopp.org/orap-meeting-rsvp/.

Dated: May 25, 2016.
N.A. Hagerty-Ford,
Commander, Office of the Judge Advocate General, U.S. Navy, Federal Register Liaison Officer.

[FR Doc. 2016-12716 Filed 5-25-16; 4:15 pm]

BILLING CODE 3810-FF-P